DEPARTMENT OF LABOR

Employment and Training Administration

[TA-W-80,490]

Novartis Pharmaceuticals Corporation, Primary Care Business Unit (Sales) Division, East Operating Unit, North Operating Unit and South Operating Unit, Formerly Known as Southeast Operating Unit, Southwest Operating Unit, Northwest Operating Unit and Northeast Operating Unit, Including On-Site Leased Workers From Inventiv Health, Ashfield Healthcare, and Pro Unlimited, East Hanover, NJ and Off-Site Workers of Novartis Pharmaceuticals Corporation, Primary Care Business Unit (Sales) Division, East Operating Unit in Illinois Who Report to East Hanover, NJ; Amended Certification Regarding Eligibility To Apply for Worker Adjustment Assistance

In accordance with Section 223 of the Trade Act of 1974, as amended (“Act”), 19 U.S.C. 2273, the Department of Labor issued a Certification of Eligibility to Apply for Worker Adjustment Assistance on January 6, 2012, applicable to workers of Novartis Pharmaceuticals Corporation, Primary Care Business Unit (Sales) Division, East Hanover, New Jersey. The Department's notice of determination was published in the Federal Register on January 24, 2012 (77 FR 3501). The notice was amended on May 4, 2012 and October 17, 2012 to include workers under the control of the subject firm working off-site in Illinois and to include the primary Care Business Unit Division that is part of the East Operating Unit. The amended notices were published in the Federal Register on May 16, 2012 (77 FR 28901) and October 29, 2012 (77 FR 65581) respectively.

At the request of a company official, the Department reviewed the certification for workers of the subject firm.

New information shows that following a company merger, the East Operating Unit, North Operating Unit and South Operating Unit, formerly known as Southeast Operating Unit, Southwest Operating Unit, Northwest Operating Unit and Northeast Operating Unit of the Primary Care Business Unit (Sales) Division of the subject firm operate in the same capacity, together are part of a continuous operation and all experienced worker separations due to increased aggregate imports of pharmaceuticals.

The intent of the Department's certification is to include all workers of the subject firm who were adversely affected by increased aggregate imports. The amended notice applicable to TA-W-80,490 is hereby issued as follows:

“All workers of Novartis Pharmaceuticals Corporation, Primary Care Business Unit (Sales) Division, East Operating Unit, North Operating Unit and South Operating Unit, formerly known as Southeast Operating Unit, Southwest operating Unit, Northwest Operating Unit and Northeast Operating Unit, including on-site leased workers from Inventiv Health, Ashfield Healthcare, and Pro Unlimited, East Hanover, New Jersey, and off-site workers of Novartis Pharmaceuticals Corporation, Primary Care Business Unit (Sales) Division, East Operating Unit in Illinois who report to East Hanover, New Jersey, who became totally or partially separated from employment on or after October 3, 2010, through January 6, 2014, and all workers in the group threatened with total or partial separation from employment on the date of certification through two years from the date of certification, are eligible to apply for adjustment assistance under Chapter 2 of Title II of the Trade Act of 1974, as amended.”

Signed in Washington, DC, this 19th day of December, 2012.
Del Min Amy Chen,
Certifying Officer, Office of Trade Adjustment Assistance.

[FR Doc. 2013-00687 Filed 1-14-13; 8:45 am]

BILLING CODE 4510-FN-P